PENSION BENEFIT GUARANTY CORPORATION

Performance Review Board Members

AGENCY: Pension Benefit Guaranty Corporation.

ACTION: Notice.

SUMMARY: The Pension Benefit Guaranty Corporation (PBGC) announces the appointment of members of the PBGC Performance Review Board.

SUPPLEMENTARY INFORMATION: In accordance with 5 U.S.C. 4314(c)(4), made applicable by PBGC's Senior Level Performance Management System, PBGC announces the appointment of those individuals who have been selected to serve as members of PBGC's Performance Review Board. The Performance Review Board is responsible for making recommendations on each senior level (SL) professional's annual summary rating, performance-based adjustment, and performance award to the appointing authority.

The following individuals have been designated as members of PBGC's 2024 Performance Review Board:

1. Ann Orr, Acting Director

2. David Foley, Chief of Benefits Administration

3. Patricia Kelly, Chief Financial Officer

4. Alice Maroni, Chief Management Officer

Issued in Washington, DC.
Ann Y. Orr,
Acting Director, Pension Benefit Guaranty Corporation.

[FR Doc. 2024-29553 Filed 12-13-24; 8:45 am]

BILLING CODE 7709-02-P